LIBRARY OF CONGRESS

Copyright Office

37 CFR Part 201

[Docket No. 2018-8]

Noncommercial Use of Pre-1972 Sound Recordings That Are Not Being Commercially Exploited; Correction

AGENCY: U.S. Copyright Office, Library of Congress.

ACTION: Final rule; correction.

SUMMARY: The U.S. Copyright Office is correcting a final rule that appeared in the Federal Register on April 9, 2019. The document incorrectly numbered paragraphs governing the filing fees of certain documents that can be filed with the Copyright Office.

DATES: Effective May 9, 2019.

FOR FURTHER INFORMATION CONTACT: Regan A. Smith, General Counsel and Associate Register of Copyrights, by email at regans@copyright.gov or Anna Chauvet, Associate General Counsel, by email at achau@copyright.gov. Each can be contacted by telephone by calling (202) 707-8350.

SUPPLEMENTARY INFORMATION: Effective May 9, 2019, in rule document 2019-06883 at 84 FR 14242 in the issue of April 9, 2019, on page 14255, in the third column, amendatory instruction 2 is corrected to read as follows:

2. Amend § 201.3 by:

a. Removing the second paragraph (c)(23).

b. Revising paragraphs (c)(20) through (23).

c. Adding paragraphs (c)(24) and (25).

The revisions and additions read as follows:

§ 201.3 Fees for registration, recordation, and related services, special services, and services performed by the Licensing Division.

* * * * *

(c) * * *

Registration, recordation and related services | Fees ($)
* * * * * * *
(20) Schedule of pre-1972 sound recordings, or supplemental schedule of pre-1972 sound recordings (single sound recording) | 75
(i) Additional sound recordings (per group of 1 to 100 sound recordings) | 10
(ii) [Reserved]
(21) Removal of pre-1972 sound recording from Office's database of indexed schedules (single sound recording) | 75
(22) Notice of noncommercial use of pre-1972 sound recording | 50
(23) Opt-out notice of noncommercial use of pre-1972 sound recording | 50
(24) Issuance of a receipt for a section 407 deposit | 30
(25) Removal of PII from Registration Records: |
(i) Initial request, per registration record | 130
(ii) Reconsideration of denied requests, flat fee | 60

* * * * *

Dated: May 2, 2019.
Karyn A. Temple,
Register of Copyrights and Director of the U.S. Copyright Office.
Approved by:
Carla D. Hayden,
Librarian of Congress.

[FR Doc. 2019-09555 Filed 5-8-19; 8:45 am]

BILLING CODE 1410-30-P